DEPARTMENT OF AGRICULTURE

Agricultural Marketing Service

9 CFR Part 201

[Doc. No. AMS-FTPP-21-0045]

RIN 0581-AE05

Inclusive Competition and Market Integrity Under the Packers and Stockyards Act

AGENCY: Agricultural Marketing Service, USDA.

ACTION: Notice; extension of comment period.

SUMMARY: The Agricultural Marketing Service is providing an additional 45 days for submission of comments and information from the public regarding the proposed revisions to the regulations under the Packers and Stockyards Act, 1921 that promote inclusive competition and market integrity in the livestock, meats, poultry, and live poultry markets.

DATES: The comment period for the proposed rule originally published on October 3, 2022, at 87 FR 60010, is extended. Comments must be submitted on or before January 17, 2023.

ADDRESSES: Comments must be submitted through the Federal e-rulemaking portal at https://www.regulations.gov and should reference the document number and the date and page number of this issue of the Federal Register. AMS strongly prefers comments be submitted electronically. However, written comments may be submitted (i.e., postmarked) via mail to S. Brett Offutt, Chief Legal Officer, Packers and Stockyards Division, USDA, AMS, FTPP; Room 2097-S, Mail Stop 3601, 1400 Independence Ave. SW, Washington, DC 20250-3601. All comments submitted in response to this proposed rule will be included in the record and will be made available to the public. Please be advised that the identity of individuals or entities submitting comments will be made public on the internet at the address provided above. Parties who wish to comment anonymously may do so by entering “N/A” in the fields that would identify the commenter.

FOR FURTHER INFORMATION CONTACT: S. Brett Offutt, Chief Legal Officer/Policy Advisor, Packers and Stockyards Division, USDA AMS Fair Trade Practices Program, 1400 Independence Ave. SW, Washington, DC 20250; Phone: (202) 690-4355; or email: s.brett.offutt@usda.gov.

SUPPLEMENTARY INFORMATION: A proposed rule published in the Federal Register on October 3, 2022 (87 FR 60010), would revise the regulations under the Packers and Stockyards Act (7 U.S.C. 181 et seq.) at 9 CFR part 201. Under the proposal, packers, swine contractors and live poultry dealers (regulated entities) would be prohibited from engaging in certain activities that prejudice, disadvantage, or inhibit market access of a covered producer and may not take adverse action against covered producers based upon the producer's status as a market vulnerable individual or as a cooperative. Regulated entities also would be prohibited from retaliating against covered producers and would be prohibited from engaging in certain deceptive practices with respect to their livestock, meat, or poultry operations.

The proposed rule announced a 60-day comment period, ending December 2, 2022. During the initial comment period, AMS received requests asking for additional time to submit comments, citing the proposed rule's complexity and its connection with other Packers and Stockyards actions under consideration at this time. AMS is now extending the comment period for this proposed rule. Comments must be submitted on or before January 17, 2023.

Erin Morris,
Associate Administrator, Agricultural Marketing Service.

[FR Doc. 2022-26081 Filed 11-29-22; 8:45 am]

BILLING CODE P